DEPARTMENT OF ENERGY

Federal Energy Regulatory Commission

Combined Notice of Filings #2

Take notice that the Commission received the following electric corporate filings:

Docket Numbers: EC14-120-000.

Applicants: Astoria Energy LLC.

Description: Application for Authorization Under Section 203 of the Federal Power Act and Request for Waivers and Expedited Action of Astoria Energy LLC.

Filed Date: 7/31/14.

Accession Number: 20140731-5106.

Comments Due: 5 p.m. ET 8/21/14.

Docket Numbers: EC14-121-000.

Applicants: Osage Wind, LLC.

Description: Application for Authorization Under Section 203 of the Federal Power Act, Request for Shortened Notice Period, Expedited Consideration and Confidential Treatment of Osage Wind, LLC.

Filed Date: 7/31/14.

Accession Number: 20140731-5134.

Comments Due: 5 p.m. ET 8/21/14.

Take notice that the Commission received the following electric rate filings:

Docket Numbers: ER13-75-005.

Applicants: Public Service Company of Colorado.

Description: 2014-07-31_Order 1000-Att R-PSCo-Amnd-0.3.1-Filing to be effective 12/31/9998.

Filed Date: 7/31/14.

Accession Number: 20140731-5148.

Comments Due: 5 p.m. ET 8/14/14.

Docket Numbers: ER13-77-003.

Applicants: Tucson Electric Power Company.

Description: Tucson Electric Power Company submits Order No. 1000 Compliance Filing to be effective 12/31/9998.

Filed Date: 7/31/14.

Accession Number: 20140731-5182.

Comments Due: 5 p.m. ET 8/14/14.

Docket Numbers: ER13-78-003.

Applicants: UNS Electric, Inc.

Description: UNS Electric, Inc. submits Order No. 1000 Compliance Filing to be effective 12/31/9998.

Filed Date: 7/31/14.

Accession Number: 20140731-5183.

Comments Due: 5 p.m. ET 8/14/14.

Docket Numbers: ER13-79-003.

Applicants: Public Service Company of New Mexico.

Description: Order No. 1000 OATT Compliance Filing to be effective 12/31/9998.

Filed Date: 7/31/14.

Accession Number: 20140731-5137.

Comments Due: 5 p.m. ET 8/14/14.

Docket Numbers: ER13-82-003.

Applicants: Arizona Public Service Company

Description: OATT Order No. 1000 Compliance Filing—Attachment E to be effective 12/31/9998.

Filed Date: 7/31/14.

Accession Number: 20140731-5088.

Comments Due: 5 p.m. ET 8/14/14.

Docket Numbers: ER13-91-003.

Applicants: El Paso Electric Company.

Description: El Paso Electric Company submits OATT Order No. 1000 Compliance Filing to be effective 12/31/9998.

Filed Date: 7/31/14.

Accession Number: 20140731-5116.

Comments Due: 5 p.m. ET 8/14/14.

Docket Numbers: ER13-96-003.

Applicants: Black Hills Power, Inc.

Description: Order No. 1000 OATT Compliance Filing to be effective 12/31/9998.

Filed Date: 7/31/14.

Accession Number: 20140731-5173.

Comments Due: 5 p.m. ET 8/14/14.

Docket Numbers: ER13-97-003.

Applicants: Black Hills/Colorado Electric Utility Company, LP.

Description: Black Hills/Colorado Electric Utility Company, LP submits Order No. 1000 OATT Compliance Filing to be effective 12/31/9998.

Filed Date: 7/31/14.

Accession Number: 20140731-5174.

Comments Due: 5 p.m. ET 8/14/14.

Docket Numbers: ER13-120-003.

Applicants: Cheyenne Light, Fuel and Power Company.

Description: Cheyenne Light, Fuel and Power Company submits Order No. 1000 OATT Compliance Filing to be effective 12/31/9998.

Filed Date: 7/31/14.

Accession Number: 20140731-5176.

Comments Due: 5 p.m. ET 8/14/14.

Docket Numbers: ER14-2430-001.

Applicants: Arizona Public Service Company.

Description: Large Generator Interconnection Agreements with Hyder—Re-file Title Pages to be effective 8/13/2014.

Filed Date: 7/31/14.

Accession Number: 20140731-5004.

Comments Due: 5 p.m. ET 8/21/14.

Docket Numbers: ER14-2486-000.

Applicants: Covanta Union, LLC.

Description: Amendment to July 24, 2014 Covanta Union, LLC tariff filing.

Filed Date: 7/31/14.

Accession Number: 20140731-5132.

Comments Due: 5 p.m. ET 8/21/14.

Docket Numbers: ER14-2543-000.

Applicants: Equilon Enterprises LLC.

Description: Equilon Supplement to Change In Status to be effective 8/1/2014.

Filed Date: 7/31/14.

Accession Number: 20140731-5065.

Comments Due: 5 p.m. ET 8/21/14.

Docket Numbers: ER14-2544-000.

Applicants: PacifiCorp.

Description: OATT EIM Attachment T Revisions to be effective 8/15/2014.

Filed Date: 7/31/14.

Accession Number: 20140731-5078.

Comments Due: 5 p.m. ET 8/21/14.

Docket Numbers: ER14-2545-000.

Applicants: PJM Interconnection, L.L.C.

Description: Queue W3-175; Service Agreement No. 3904 to be effective 7/2/2014.

Filed Date: 7/31/14.

Accession Number: 20140731-5081.

Comments Due: 5 p.m. ET 8/21/14.

Docket Numbers: ER14-2546-000.

Applicants: NorthWestern Corporation.

Description: OATT Order No 789 Compliance Filing (Montana) to be effective 10/1/2014.

Filed Date: 7/31/14.

Accession Number: 20140731-5087.

Comments Due: 5 p.m. ET 8/21/14.

Docket Numbers: ER14-2547-000.

Applicants: Union Power Partners, L.P.

Description: Revised Rate Schedule FERC No. 2 to be effective 10/1/2014.

Filed Date: 7/31/14.

Accession Number: 20140731-5094.

Comments Due: 5 p.m. ET 8/21/14.

Docket Numbers: ER14-2548-000.

Applicants: Ocean State Power.

Description: Ocean State Power LLC Notice of Succession to be effective 7/1/2014.

Filed Date: 7/31/14.

Accession Number: 20140731-5095.

Comments Due: 5 p.m. ET 8/21/14.

Docket Numbers: ER14-2549-000.

Applicants: PacifiCorp.

Description: UMPA ARTSOA Rev 4 to be effective 10/1/2014.

Filed Date: 7/31/14.

Accession Number: 20140731-5103.

Comments Due: 5 p.m. ET 8/21/14

Docket Numbers: ER14-2550-000.

Applicants: Louisville Gas and Electric Company.

Description: Order No. 792 Compliance Filing to be effective 8/4/2014.

Filed Date: 7/31/1.4

Accession Number: 20140731-5112.

Comments Due: 5 p.m. ET 8/21/14.

Docket Numbers: ER14-2551-000.

Applicants: Duke Energy Progress, Inc., Duke Energy Florida, Inc., Duke Energy Carolinas, LLC.

Description: OATT Order 792 Compliance Filing to be effective 8/4/2014.

Filed Date: 7/31/14.

Accession Number: 20140731-5138.

Comments Due: 5 p.m. ET 8/21/14

Docket Numbers: ER14-2552-000.

Applicants: New York Independent System Operator, Inc.

Description: Section 205 tariff revisions of credit requirements for CTS External Transaction to be effective 12/31/9998.

Filed Date: 7/31/14.

Accession Number: 20140731-5149.

Comments Due: 5 p.m. ET 8/21/14.

Docket Numbers: ER14-2553-000.

Applicants: Southwest Power Pool, Inc.

Description: Revisions to Implement Long Term Congestion Rights—FERC Order 681 to be effective 2/1/2015.

Filed Date: 7/31/14.

Accession Number: 20140731-5165.

Comments Due: 5 p.m. ET 8/21/14.

Docket Numbers: ER14-2554-000.

Applicants: Illinois Power Generating Company.

Description: Requests for Waivers of Parts 41, 101 and 141 of the Commission's Regulations to be effective 8/1/2014.

Filed Date: 7/31/14.

Accession Number: 20140731-5166.

Comments Due: 5 p.m. ET 8/21/14.

Docket Numbers: ER14-2555-000.

Applicants: Southwest Power Pool, Inc.

Description: Southwest Power Pool, Inc. submits 2158R4 Arkansas Electric Cooperative Corp NITSA and NOA to be effective 7/1/2014.

Filed Date: 7/31/14.

Accession Number: 20140731-5178.

Comments Due: 5 p.m. ET 8/21/14.

Docket Numbers: ER14-2556-000.

Applicants: South Carolina Electric & Gas Company.

Description: South Carolina Electric & Gas Company submits: Compliance filing Order No. 792 to be effective 7/31/2014.

Filed Date: 7/31/14.

Accession Number: 20140731-5180.

Comments Due: 5 p.m. ET 8/21/14.

Take notice that the Commission received the following land acquisition reports:

Docket Numbers: LA14-2-000.

Applicants: Alpaugh 50, LLC, Alpaugh North, LLC, CED White River Solar, LLC, CED White River Solar 2, LLC, CED Corcoran Solar, LLC, CED Corcoran Solar 2, LLC.

Description: Quarterly Land Acquisition Report of the CED Companies.

Filed Date: 7/31/14.

Accession Number: 20140731-5119.

Comments Due: 5 p.m. ET 8/21/14.

Docket Numbers: LA14-2-000.

Applicants: AES Alamitos, LLC, AES Armenia Mountain Wind, LLC, AES Beaver Valley, LLC, AES Energy Storage, LLC, AES ES Tait, LLC, AES Huntington Beach, L.L.C., AES Laurel Mountain, LLC, AES Redondo Beach, L.L.C., Mountain View Power Partners, LLC.

Mountain View Power Partners IV, LLC, Indianapolis Power & Light Company, The Dayton Power and Light Company, DPL Energy, LLC.

Description: Quarterly Land Acquisition Report of the AES Corporation.

Filed Date: 7/31/14.

Accession Number: 20140731-5150.

Comments Due: 5 p.m. ET 8/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2014.
Nathaniel J. Davis, Sr.,
Deputy Secretary.

[FR Doc. 2014-18694 Filed 8-6-14; 8:45 am]

BILLING CODE 6717-01-P